DEPARTMENT OF HEALTH AND HUMAN SERVICES

Food and Drug Administration

Additives and Ingredients Subcommittee of the Food Advisory Committee; Notice of Meeting

AGENCY: Food and Drug Administration, HHS.

ACTION: Notice.

This notice announces a forthcoming meeting of a public advisory committee of the Food and Drug Administration (FDA). The meeting will be open to the public.

Name of Committee: Additives and Ingredients Subcommittee of the Food Advisory Committee.

General Function of the Committee: To provide advice and recommendations to the agency on FDA's regulatory issues.

Date and Time: The meeting will be held on August 26 and 27, 2003, from 8:30 a.m. to 4:30 p.m., and August 28, 2003, from 8:30 a.m. to 12 noon.

Location: St. Regis Hotel (Crystal Ballroom), 923 16th St., NW, Washington, DC 20006, 202-638-2626.

Contact Person: Richard E. Bonnette, Center for Food Safety and Applied Nutrition (HFS-255), Food and Drug Administration, 5100 Paint Branch Pkwy., College Park, MD 20740, 202-418-3034, 202-418-3030, or FDA Advisory Committee Information Line, 1-800-741-8138 (301-443-0572 in the Washington, DC area), code 10564. Please call the Information Line for up-to-date information on this meeting.

Agenda: A small percentage of the population is allergic to natural rubber latex. FDA has received reports of sensitized people experiencing allergic reactions upon eating food they believed was prepared by food handlers wearing natural rubber latex gloves. The purpose of this meeting is to gather information and to provide advice and recommendations to the agency relating to reported allergic reactions to food prepared by workers wearing latex food service gloves.

Procedure: Interested persons may present data, information, or views, orally or in writing, on issues pending before the committee. Written submissions may be made to the contact person by August 20, 2003. Oral presentations from the public will be scheduled between approximately 11 a.m. and 12 noon on August 27, 2003. Time allotted for each presentation may be limited. Those desiring to make formal oral presentations should notify the contact person before August 20, 2003, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Richard E. Bonnette at least 7 days in advance of the meeting.

Notice of this meeting is given under the Federal Advisory Committee Act (5 U.S.C. app. 2).

Dated: July 23, 2003.
Peter J. Pitts,
Associate Commissioner for External Relations.

[FR Doc. 03-19448 Filed 7-30-03; 8:45 am]

BILLING CODE 4160-01-S